DEPARTMENT OF COMMERCE

Foreign-Trade Zones Board

[S-77-2017]

Foreign-Trade Zone 75—Phoenix, Arizona; Withdrawal of Application for Subzone Expansion; Conair Corporation, Glendale, Arizona

The City of Phoenix, Arizona, grantee of FTZ 75, submitted an application, docketed on May 16, 2017, requesting expanded subzone status for the facilities of Conair Corporation (Conair), Subzone 75A, located in Glendale, Arizona (82 FR 25239, June 1, 2017). The City of Phoenix subsequently requested and obtained approval for the expanded subzone status for Conair under the alternative site framework. As a result, the City of Phoenix has withdrawn the initial application requesting expanded subzone status. For further information, contact Christopher Kemp at Christopher.Kemp@trade.gov or (202) 482-0862.

Dated: August 11, 2017.
Andrew McGilvray,
Executive Secretary.

[FR Doc. 2017-17363 Filed 8-16-17; 8:45 am]

BILLING CODE P3510-DS-P